DEPARTMENT OF HOMELAND SECURITY

Coast Guard

[USCG-2011-0975]

National Maritime Security Advisory Committee

AGENCY: Coast Guard, DHS.

ACTION: Committee Management; Notice of Federal Advisory Committee Meeting; correction.

SUMMARY: The Coast Guard published in the Federal Register of May 1, 2012, a notice announcing a National Maritime Security Advisory Committee (NMSAC) partially closed public meeting on May 15-16, 2012, in the Washington, DC metropolitan area. This notice corrects that previous notice to add an explanation for why 15-days advance notice was not given.

DATES: The Committee will meet in closed session on Tuesday, May 15, 2012 from 9 a.m. to 11:30 a.m. and in open session on Tuesday, May 15, 2012 from 1 p.m. to 5 p.m. and Wednesday, May 16, 2012 from 9 a.m. to 12 p.m. This meeting may close early if all business is finished. Written material and requests to make oral presentations should reach us on or before May 9, 2012.

ADDRESSES: The Committee will meet in closed session at the National Maritime Intelligence Center and in open session at the American Bureau of Shipping, 1400 Key Blvd., Suite 800, Arlington, VA 22209.

FOR FURTHER INFORMATION CONTACT: Mr. Ryan Owens, ADFO of NMSAC, 2100 2nd Street SW., Stop 7581, Washington, DC 20593-7581; telephone 202-372-1108 or email ryan.f.owens@uscg.mil.

SUPPLEMENTARY INFORMATION: The Coast Guard's May 1, 2012 notice of the May 15-16, 2012, NMSAC meeting inadvertently failed to contain an explanation for its publication less than 15 calendar days prior to the meeting, as required by General Services Administration rules 41 CFR 102-3.150. The reason the notice was published only 14 calendar days prior to the meeting was an administrative delay due to publication schedule and extensive meeting preparation. The Coast Guard regrets the delay in publication, but notes that the notice was publicly available on the Federal Register Web site 13 calendar days prior to the meeting. Additionally, all known interested parties were made aware of the meeting with sufficient time for planning purposes.

It is critical that this meeting be held on the announced meeting date because the advisory committee members have limited availability for the remainder of the calendar year. Delays in committee discussions could have significant ramifications for ongoing Coast Guard studies and evaluations on the agenda for the upcoming meeting. Maintaining the current meeting schedule allows the Coast Guard to continue deliberations and make forward progress regarding multiple maritime security initiatives.

If you have been adversely affected by the delay in publishing the notice, contact Mr. Ryan Owens (see FOR FURTHER INFORMATION CONTACT) and the Coast Guard will make every effort to accommodate you.

Dated: April 30, 2012.
Michael W. Mumbach,
Acting Chief, Office of Regulations and Administrative Law (CG-0943), U.S. Coast Guard.

[FR Doc. 2012-10668 Filed 4-30-12; 4:15 pm]

BILLING CODE 9110-04-P